DEPARTMENT OF COMMERCE

National Oceanic and Atmospheric Administration

[I.D. 040300E]

New England Fishery Management Council; Public Meetings

AGENCY: National Marine Fisheries Service (NMFS), National Oceanic and Atmospheric Administration (NOAA), Commerce.

ACTION: Notice of public meetings.

SUMMARY: The New England Fishery Management Council (Council) will hold public meetings of its Herring Oversight Committee, the joint Council/Atlantic States Marine Fisheries Commission (ASMFC) Herring Advisory Panel and the Groundfish Oversight Committee in April, 2000. Recommendations from the committees will be brought to the full Council for formal consideration and action, if appropriate.

DATES: See SUPPLEMENTARY INFORMATION for specific dates and times.

ADDRESSES: The meetings will be held between April 24 and April 27, 2000. See SUPPLEMENTARY INFORMATION for specific dates and times.

FOR FURTHER INFORMATION CONTACT: Paul J. Howard, Executive Director, New England Fishery Management Council; (978) 465-0492.

SUPPLEMENTARY INFORMATION:

Meeting Dates and Agendas

Monday, April 24, 2000, 10:00 a.m.—Groundfish Oversight Committee

Location: Yoken's Conference Center, Route 1, Portsmouth NH 03801; telephone: (603) 433-3338.

A Groundfish Oversight Committee meeting is scheduled for April 11, 2000. Should the Committee need additional time to continue its discussions, another meeting will be held on April 24, 2000. Contact the Council offices after April 12 to determine if this second meeting is necessary. If held, at this meeting, the committee will continue development of management options for Amendment 13 to the Northeast Multispecies Fishery Management Plan (FMP). Agenda items include discussion of guidance received from the full Council and NMFS concerning overfishing definitions and control rules. Current overfishing definitions and control rules for the multispecies complex will be reviewed and the assumptions and policy decisions in those rules examined. The committee will determine the biological goals of the amendment in light of these discussions. The committee also will organize into subcommittees that will be tasked to develop specific management options for consideration by the full committee.

Wednesday, April 26, 2000, 10 a.m.—Joint Council/ASMFC Herring Advisory Panel Meeting

Location: Sheraton Ferncroft Hotel, 50 Ferncroft Road, Danvers, MA 01923; telephone: (978) 777-2500.

The Joint Advisory Panel will review the comments received from the public during the scoping process for a limited entry or controlled access system for the Atlantic Herring fishery. Based on this review, the advisors will recommend how to proceed in the development of such a system. The advisors will also discuss options for the protection of spawning herring and will recommend whether to make any revisions to the spawning restrictions contained in the ASMFC management plan, and whether to recommend spawning restrictions for the Council's Atlantic Herring Fishery Management Plan. The advisors will discuss the impact of the total allowable catch on industry sectors and will determine what action, if any, should be recommended to insure the fixed gear sector has access to the fishery. The advisors will also discuss possible adjustments to the area specific total allowable catches, and may make recommendations for changes. The advisors will also elect a chair. The advisors may also discuss the annual specification process and may recommend how that process should proceed.

Thursday, April 27, 2000, 10 a.m.—Joint Council Herring Oversight Committee/ASMFC Atlantic Herring Section

Location: Sheraton Ferncroft Hotel, 50 Ferncroft Road, Danvers, MA 01923; telephone: (978) 777-2500.

The Committees will review the comments received from the public during the scoping process for a limited entry or controlled access system for the Atlantic Herring fishery. Based on this review, the Committees will decide how to proceed in the development of such a system, and will develop a schedule for a and provide initial direction to the Plan Development Team should they choose to continue development of a limited entry or controlled access system. The Committees will also discuss options for the protection of spawning herring and will decide whether to make any revisions to the spawning restrictions contained in the ASMFC management plan, and whether to recommend spawning restrictions for the Council's Atlantic Herring Fishery Management Plan. The Committees will discuss the impact of the total allowable catch on industry sectors and will determine what action, if any, should be taken to insure the fixed gear sector has access to the fishery. The Committees will also discuss possible adjustments to the area specific total allowable catches, and may make recommendations for changes. The Committee may also discuss the annual specification process and may provide direction to the Plan Development Team on how that process should proceed.

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: April 4, 2000.
Bruce C. Morehead,
Acting Director, Office of Sustainable Fisheries, National Marine Fisheries Service.

[FR Doc. 00-8772 Filed 4-7-00; 8:45 am]

BILLING CODE 3510-22-F